DEPARTMENT OF TRANSPORTATION

Federal Aviation Administration

14 CFR Part 39

[Docket No. 2000-NM-397-AD; Amendment 39-12359; AD 2001-15-24]

RIN 2120-AA64

Airworthiness Directives; Bombardier Model CL-600-2B16 (including CL-601-3A and CL-601-3R) Series Airplanes

AGENCY: Federal Aviation Administration, DOT.

ACTION: Final rule.

SUMMARY: This amendment adopts a new airworthiness directive (AD), applicable to certain Bombardier Model CL-600-2B16 series airplanes, that requires modification of the wiring for the internal fuel/defuel panel. The actions specified by this AD are intended to prevent the loss of engine and fuel indications essential for safe flight and landing. This action is intended to address the identified unsafe condition.

DATES: Effective September 10, 2001.

The incorporation by reference of certain publications listed in the regulations is approved by the Director of the Federal Register as of September 10, 2001.

ADDRESSES: The service information referenced in this AD may be obtained from Bombardier, Inc., Canadair, Aerospace Group, P.O. Box 6087, Station Centre-ville, Montreal, Quebec H3C 3G9, Canada. This information may be examined at the FAA, Transport Airplane Directorate, 1601 Lind Avenue, SW., Renton, Washington; or at the FAA, New York Aircraft Certification Office, 10 Fifth Street, Third Floor, Valley Stream, New York; or at the Office of the Federal Register, 800 North Capitol Street, NW., suite 700, Washington, DC.

FOR FURTHER INFORMATION CONTACT: James E. Delisio, Aerospace Engineer, Airframe and Propulsion Branch, ANE-171, FAA, New York Aircraft Certification Office, 10 Fifth Street, Third Floor, Valley Stream, New York 11581; telephone (516) 256-7521; fax (516) 568-2716.

SUPPLEMENTARY INFORMATION: A proposal to amend part 39 of the Federal Aviation Regulations (14 CFR part 39) to include an airworthiness directive (AD) that is applicable to certain Bombardier Model CL-600-2B16 series airplanes was published in the Federal Register on May 23, 2001 (66 FR 28402). That action proposed to require modification of the wiring for the internal fuel/defuel panel.

Comments

Interested persons have been afforded an opportunity to participate in the making of this amendment. No comments were submitted in response to the proposal or the FAA's determination of the cost to the public.

Conclusion

The FAA has determined that air safety and the public interest require the adoption of the rule as proposed.

Cost Impact

The FAA estimates that 18 Model CL-600-2B16 series airplanes of U.S. registry will be affected by this AD, that it will take approximately 60 work hours per airplane to accomplish the required actions, and that the average labor rate is $60 per work hour. The manufacturer has committed previously to its customers that it will bear the cost of labor and replacement parts. As a result, those costs are not attributable to this AD.

Regulatory Impact

The regulations adopted herein will not have a substantial direct effect on the States, on the relationship between the national Government and the States, or on the distribution of power and responsibilities among the various levels of government. Therefore, it is determined that this final rule does not have federalism implications under Executive Order 13132.

For the reasons discussed above, I certify that this action (1) is not a “significant regulatory action” under Executive Order 12866; (2) is not a “significant rule” under DOT Regulatory Policies and Procedures (44 FR 11034, February 26, 1979); and (3) will not have a significant economic impact, positive or negative, on a substantial number of small entities under the criteria of the Regulatory Flexibility Act. A final evaluation has been prepared for this action and it is contained in the Rules Docket. A copy of it may be obtained from the Rules Docket at the location provided under the caption ADDRESSES.

List of Subjects in 14 CFR Part 39

Air transportation, Aircraft, Aviation safety, Incorporation by reference, Safety.

Adoption of the Amendment

Accordingly, pursuant to the authority delegated to me by the Administrator, the Federal Aviation Administration amends part 39 of the Federal Aviation Regulations (14 CFR part 39) as follows:

PART 39—AIRWORTHINESS DIRECTIVES

1. The authority citation for part 39 continues to read as follows:

Authority: 49 U.S.C. 106(g), 40113, 44701.

§ 39.13 [Amended]

2. Section 39.13 is amended by adding the following new airworthiness directive:

2001-15-24 Bombardier, Inc. (Formerly Canadair): Amendment 39-12359. Docket 2000-NM-397-AD.

Applicability: Model CL-600-2B16 (including CL-601-3A and CL-601-3R) series airplanes, certificated in any category, as listed in the following table:

Table 1.—Applicability
Serial No. | Transport Canada limited supplemental type certificate (STC) | FAA STC
5064 | SA90-128 | ST00873NY.
5075 | SA91-22 | SA861NE.
5080 | SA91-42 | SA860NE.
5092 | Q-LSA91-52/D | SA965NE/ST00470NY.
5096 | Q-LSA91-52/D | SA965NE.
5102 | Q-LSA92-2/D | ST00364NY.
5111 | Q-LSA92-1011/D | SA1029NE.
5123 | Q-LSA93-1002/D | ST00001NY.
5125 | Q-LSA93-1007/D | No record of FAA STC.
5130 | Q-LSA93-1023/D | ST00049NY.
5139 | Q-LSA94-1002/D | ST00086NY.
5142 | Q-LSA94-1011/D | ST00216NY.
5154 | Q-LSA94-1023/D | ST00273NY.
5156 | Q-LSA94-1025/D | ST00423NY.
5159 | Q-LSA95-1002/D | ST01228NY.
5162 | Q-LSA95-1003/D | No record of FAA STC.
5163 | Q-LSA95-1011/D | ST00343NY.
5194 | Q-LSA96-1006/D | ST00769NY.

Note 1: This AD applies to each airplane identified in the preceding applicability provision, regardless of whether it has been modified, altered, or repaired in the area subject to the requirements of this AD. For airplanes that have been modified, altered, or repaired so that the performance of the requirements of this AD is affected, the owner/operator must request approval for an alternative method of compliance in accordance with paragraph (b) of this AD. The request should include an assessment of the effect of the modification, alteration, or repair on the unsafe condition addressed by this AD; and, if the unsafe condition has not been eliminated, the request should include specific proposed actions to address it.

Compliance: Required as indicated, unless accomplished previously.

To prevent loss of engine and fuel indications essential for safe flight and landing, accomplish the following:

Modification

(a) Within 6 months after the effective date of this AD, modify the wiring for the internal fuel/defuel panel, in accordance with Bombardier Service Bulletin S.B. GEN-28-010, Revision A, dated May 15, 2000.

Alternative Methods of Compliance

(b) An alternative method of compliance or adjustment of the compliance time that provides an acceptable level of safety may be used if approved by the Manager, New York Aircraft Certification Office (ACO), FAA. Operators shall submit their requests through an appropriate FAA Principal Maintenance Inspector, who may add comments and then send it to the Manager, New York ACO.

Note 2: Information concerning the existence of approved alternative methods of compliance with this AD, if any, may be obtained from the New York ACO.

Special Flight Permits

(c) Special flight permits may be issued in accordance with §§ 21.197 and 21.199 of the Federal Aviation Regulations (14 CFR 21.197 and 21.199) to operate the airplane to a location where the requirements of this AD can be accomplished.

Incorporation by Reference

(d) The modification shall be done in accordance with Bombardier Service Bulletin S.B. GEN-28-010, Revision A, dated May 15, 2000. This incorporation by reference was approved by the Director of the Federal Register in accordance with 5 U.S.C. 552(a) and 1 CFR part 51. Copies may be obtained from Bombardier, Inc., Canadair, Aerospace Group, P.O. Box 6087, Station Centreville, Montreal, Quebec H3C 3G9, Canada. Copies may be inspected at the FAA, Transport Airplane Directorate, 1601 Lind Avenue, SW., Renton, Washington; or at the Office of the Federal Register, 800 North Capitol Street, NW., suite 700, Washington, DC.

Note 3: The subject of this AD is addressed in Canadian airworthiness directive CF-2000-24, dated August 15, 2000.

Effective Date

(e) This amendment becomes effective on September 10, 2001.

Issued in Renton, Washington, on July 25, 2001.
Vi L. Lipski,
Manager, Transport Airplane Directorate, Aircraft Certification Service.

[FR Doc. 01-19248 Filed 8-3-01; 8:45 am]

BILLING CODE 4910-13-U